SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes three revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget,

Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than July 15, 2014. Individuals can obtain copies of the collection instruments by writing to the above email address.

1. Electronic Benefit Verification Information (BEVE) and Internet Benefit Verficiation (iBEVE)—20 CFR 401.40—0960-0595. The electronic proof of income (POI) verification information service, BEVE, provides Supplemental Security Income (SSI) recipients, Social Security, and Medicare beneficiaries, the convenience of requesting a POI statement through the Internet. Beneficiaries and SSI recipients often require POI to obtain housing, food stamps, or other public services. After verifying the requester's identity, SSA uses the information from BEVE to provide the POI statement. The iBEVE Internet application allows the same BEVE service the public uses to access POI and benefit information. However, the iBEVE service allows the public instant online access to their POI and benefit information (unlike the BEVE service that mails the information via U.S. Postal Service). iBEVE users are required to pass SSA's Public Credentialing and Authentication Process (OMB No. 0960-0789) prior to entering into the iBEVE Internet application. The respondents are Social Security and Medicare beneficiaries, and SSI recipients.

Type of Request: Revision of an OMB-approved information collection.

Modality of completion | Number of respondents | Frequency of response | Average burden per response (minutes) | Estimated total annual burden (hours)
BEVE | 870,958 | 1 | 5 | 72,580
iBEVE | 1,007,744 | 1 | 4 | 67,183
Totals | 1,878,702 |  |  | 139,763

2. Medicare Part D Subsidies Regulations—20 CFR 418.3625, 418.3645, 418.3665(a), and 418.3670—0960-0702. The Medicare Prescription Drug Improvement and Modernization Act (MMA) of 2003 established the Medicare Part D program for voluntary prescription drug coverage of premium, deductible, and co-payment costs for certain low-income individuals. The MMA also mandated the provision of subsidies for those individuals who qualify for the program and who meet eligibility criteria for help with premium, deductible, or co-payment costs. This law requires SSA to make eligibility determinations and to provide a process for appealing SSA's determinations. Regulation sections 418.3625(c), 418.3645, 418.3665(a), and 418.3670 contain public reporting requirements pertaining to administrative review hearings. Respondents are applicants for the Medicare Part D subsidies who request an administrative review hearing.

Type of Request: Extension of an existing OMB-approved information collection.

Modality of completion | Number of respondents | Frequency of response | Average burden per response (minutes) | Estimated total annual burden (hours)
418.3625(c) | 150 | 1 | 5 | 13
418.3645 | 10 | 1 | 20 | 3
418.3665(a) | 300 | 1 | 5 | 25
418.3670 | 0 | 1 | 10 | 0
Totals | 460 |  |  | 41

II. SSA submitted the information collections below to OMB for clearance. Your comments regarding the information collections would be most useful if OMB and SSA receive them 30 days from the date of this publication. To be sure we consider your comments, we must receive them no later than June 16, 2014. Individuals can obtain copies of the OMB clearance packages by writing to OR.Reports.Clearance@ssa.gov.

1. Statement Regarding Marriage—20 CFR 404.726—0960-0017. According to section 216(h)(1)(A) of the Social Security Act (Act), SSA must apply state law when determining an individual's marital status. Some state laws recognize marriages without a ceremony (i.e., common-law marriages). In such cases, SSA provides the same spouse or widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent, cohabitation, and holding out to the public as married, which are the basic tenets of a common-law marriage. SSA uses the information to determine if a valid marital relationship exists, and if the common-law spouse is entitled to Social Security spouse or widow(er) benefits. The respondents are third parties who can confirm or deny the alleged common-law marriage.

Type of Request: Revision of an OMB-approved information collection.

Modality of completion | Number of respondents | Frequency of response | Average burden per response (minutes) | Estimated total annual burden (hours)
SSA-753 | 40,000 | 1 | 9 | 6,000

2. Request for Review of Hearing Decision/Order-20 CFR 404.967-404.981, 416.1467-416.1481-0960-0277. Claimants have a statutory right under the Act and current regulations to request review of an administrative law judge's (ALJ) hearing decision or dismissal of a hearing request on Title II and Title XVI claims. Claimants may request Appeals Council review by filing a written request using Form HA-520. SSA uses the information to establish the claimant filed the request for review within the prescribed time, and to ensure the claimant completed the requisite steps permitting the Appeals Council review. The Appeals Council uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Modality of completion | Number of respondents | Frequency of response | Average burden per response (minutes) | Estimated total annual burden (hours)
HA-520 | 171,000 | 1 | 10 | 28,500

Dated: May 13, 2014.
Faye Lipsky,
Reports Clearance Director, Social Security Administration.

[FR Doc. 2014-11334 Filed 5-15-14; 8:45 am]

BILLING CODE 4191-02-P